DEPARTMENT OF AGRICULTURE

Forest Service

Information Collection: Ride-Along Program

AGENCY: Forest Service, USDA.

ACTION: Notice; request for comment.

SUMMARY: In accordance with the Paperwork Reduction Act of 1995, the Forest Service is seeking comments from all interested individuals and organizations on a new information collection associated with the Ride-Along Program application, a program which allows any private citizen to apply to ride along with Forest Service law enforcement officers.

DATES: Comments must be received in writing on or before August 31, 2012 to be assured of consideration. Comments received after that date will be considered to the extent practicable.

ADDRESSES: Comments concerning this notice should be addressed to the Director of Law Enforcement and Investigations, USDA Forest Service, LE&I, Room 1015-RPE, 1621 N. Kent St., Arlington, VA 22209.

Comments also may be submitted via facsimile to 703-605-5112, or by email to Peter Roehrs at plroehrs@fs.fed.us.

The public may inspect comments received at 1621 N. Kent Street, Room 1015, Rosslyn Plaza East, Arlington, VA during normal business hours. Visitors are encouraged to call ahead to 703-605-4690 to facilitate entry to the building.

FOR FURTHER INFORMATION CONTACT: Peter Roehrs, Acting Assistant Director for Enforcement and Liaison, LE&I, 703-605-4893. Individuals who use telecommunication devices for the deaf (TDD) may call the Federal Information Relay Service (FIRS) at 1-800-877-8339 twenty-four hours a day, every day of the year, including holidays.

SUPPLEMENTARY INFORMATION: Title: Forest Service Law Enforcement Ride-Along Program.

OMB Number: 0596-0170.

Type of Request: Extension with Revision.

Abstract: This information collection is necessary for Forest Service Law Enforcement and Investigations (LE&I) personnel to authorize a rider who applies to participate in the Ride-Along program. The information collection also provides additional protection for LE&I personnel who allow authorized riders to accompany them in boats, cars, trucks, or other vehicles. The purpose of this program is for citizens to learn about and observe Forest Service LE&I tasks and activities. The program is intended to enhance Forest Service law enforcement community relationships, improve the quality of Forest Service customer service, and provide LE&I personnel a recruitment tool. A rider shall complete two forms in order to participate. Form FS-5300-33 asks for the participant's name, address, social security number, driver's license number, work address, location of the Ride-Along, and the reason for the Ride-Along. Law enforcement officers use form FS-5300-33 to conduct a minimum background check before authorizing a person to ride along. Form FS-5300-34 is signed by riders to exempt law enforcement officers and the Forest Service from damage, loss, or injury liability incurred during the rider's participation in the program. If the information is not collected, riders will be denied permission to ride along with Forest Service law enforcement personnel.

Estimate of Annual Burden

FS-5300-33: 6 minutes.

FS-5300-34: 7 minutes.

Total: 13 minutes.

Type of Respondents: Citizens who want to learn about and observe Forest Service Law Enforcement and Investigation (LE&I) tasks and activities.

Estimated Annual Number of Respondents: 500.

Estimated Annual Number of Responses per Respondent: 1.

Estimated Total Annual Burden on Respondents: 108 hours per year.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the information collection submission for Office of Management and Budget approval.

Dated: June 26, 2012.
Thomas L. Tidwell,
Chief, Forest Service.

[FR Doc. 2012-16069 Filed 6-29-12; 8:45 am]

BILLING CODE 3410-11-P